DEPARTMENT OF HOMELAND SECURITY

Coast Guard

33 CFR Part 165

[Docket No. USCG-2017-0491]

Safety Zones; Recurring Fireworks Displays Within the Fifth Coast Guard District

AGENCY: Coast Guard, DHS.

ACTION: Notice of enforcement of regulation.

SUMMARY: The Coast Guard will enforce safety zones for the Town of Chesapeake Beach fireworks display taking place over the Chesapeake Bay, Chesapeake Beach, MD, on July 2, 2017 and the Havre de Grace 4th of July Celebration fireworks display taking place over the Susquehanna River, Havre de Grace, MD, on July 2, 2017. During the enforcement periods, vessels may not enter, remain in, or transit through the safety zones unless authorized by the Captain of the Port or designated Coast Guard patrol personnel on scene. This action is necessary to ensure safety of life on navigable waters during these events.

DATES: The regulations in 33 CFR 165.506, listed as event (b.) 10, Chesapeake Bay, Chesapeake Beach, MD; Safety Zone, in the table to 33 CFR 165.506 will be enforced from 8:30 p.m. to 10:30 p.m. on July 2, 2017; and in the case of inclement weather enforcement will be from 8:30 p.m. to 10:30 p.m. on July 3, 2017. The regulations in 33 CFR 165.506, listed as event (b.) 28, Susquehanna River, Havre de Grace, MD; Safety Zone, in the table to 33 CFR 165.506 will be enforced from 8:30 p.m. to 10:30 p.m. on July 2, 2017; and in the case of inclement weather enforcement will be from 8:30 p.m. to 10:30 p.m. on July 3, 2017.

FOR FURTHER INFORMATION CONTACT: If you have questions about this notice of enforcement, call or email Mr. Ron Houck, U.S. Coast Guard Sector Maryland-National Capital Region (WWM Division); telephone 410-576-2674, email Ronald.L.Houck@uscg.mil.

SUPPLEMENTARY INFORMATION: The safety zone for the Town of Chesapeake Beach fireworks display will include all waters within 200 yard radius of the fireworks barge in approximate position latitude 38°41′36″ N., longitude 076°31′30″ W., and within a 200 yard radius of the fireworks barge in approximate position latitude 38°41′28″ N., longitude 076°31′29″ W. The safety zone for the Havre de Grace 4th of July Celebration fireworks display will include all waters within a 150 yard radius of the fireworks barge in approximate position latitude 39°32′19″ N., longitude 076°04′58.3″ W.

This action is being taken to provide for the safety of life on navigable waterways during these events. As specified in § 165.506 (d), during the enforcement period, vessels may not enter, remain in, or transit through the safety zone unless authorized by the Coast Guard Captain of the Port (COTP) or designated Coast Guard patrol personnel on scene. All persons and vessels shall comply with the instructions of the COTP, Coast Guard Patrol Commander or the designated on-scene-patrol personnel. Other Federal, State and local agencies may assist these personnel in the enforcement of the safety zone. If the COTP or his designated on-scene patrol personnel determine the regulated area need not be enforced for the full duration stated in this notice, a Broadcast Notice to Mariners may be used to grant general permission to enter the regulated area.

This notice of enforcement is issued under authority of 33 CFR 165.506(d) and 5 U.S.C. 552(a). In addition to this notice of enforcement in the Federal Register, the Coast Guard will provide notification of this enforcement period via the Local Notice to Mariners and marine information broadcasts.

Dated: June 8, 2017.
Lonnie P. Harrison, Jr.,
Captain, U.S. Coast Guard, Captain of the Port Maryland-National Capital Region.

[FR Doc. 2017-12164 Filed 6-12-17; 8:45 am]

BILLING CODE 9110-04-P